DEPARTMENT OF TRANSPORTATION

Federal Aviation Administration

Announcement of Charter Renewal of the Radio Technical Commission for Aeronautics (RTCA), Inc.

SUMMARY: The FAA is issuing this notice to advise the public of the charter renewal of RTCA, 1110.77U, a Federal Advisory Committee that seeks resolution of issues and challenges involving air transportation concepts, requirements, operational capabilities, and the associated use of technology and related considerations to aeronautical operations that impact the future Air Traffic Management System. This charter renewal will take effect on April 1, 2013, and will expire after 2 years.

FOR FURTHER INFORMATION CONTACT: Paige Williams, Administrative Officer, Federal Aviation Administration, 950 L'Enfant Plaza SW., Mailstop 4th floor, 081, Washington, DC 20591, (202) 385-4200.

SUPPLEMENTARY INFORMATION: Pursuant to section 10(a) (2) of the Federal Advisory Committee Act (Pub. L. 92-463, 5 U.S.C., App.), notice is hereby given for the charter renewal of RTCA, 1110.77U. RTCA is a not-for-profit organization of government and industry representatives. RTCA benefits the public interest and supports the FAA in performing its duties and responsibilities under Subtitle VII, 49 U.S.C. 40101. The FAA and seven other government agencies use RTCA as a federal advisory committee. On January 2, 1976, the FAA, the major government user of RTCA products, assumed sponsorship on behalf of all government agencies. RTCA brings together representatives of the government and industry to form special committees and steering committees to provide advice and recommendations on key operational and technological issues that impact the Next Generation Air Transportation System (NextGen) implementation and the Air Traffic Management System. This order can be found on the FAA.GOV Web site under “Regulations & Policies” and select “Orders & Notices” or you can also find this order on the MyFAA Employee Web site. Use “Tools & Resources” and select “Orders & Notices” or directly at http://www.faa.gov/documentLibrary/media/Order/1110.77U.pdf.

Issued in Washington, DC, on March 26, 2013.
Paige Williams,
Management Analyst, NextGen, Business Operations Group, Federal Aviation Administration.

[FR Doc. 2013-07379 Filed 3-28-13; 8:45 am]

BILLING CODE 4910-13-P